DEPARTMENT OF ENERGY

Federal Energy Regulatory Commission

Combined Notice of Filings #1

Take notice that the Commission received the following electric rate filings:

Docket Numbers: ER10-2331-018; ER10-2343-018; ER10-2319-017; ER10-2320-017; ER10-2317-016; ER10-2322-018; ER10-2324-017; ER10-2325-016; ER10-2332-017; ER10-2326-018; ER10-2327-019; ER10-2328-017; ER11-4609-016; ER10-2330-018.

Applicants: J.P. Morgan Ventures Energy Corporation, J.P. Morgan Commodities Canada Corporation, BE Alabama LLC, BE Allegheny LLC, BE CA LLC, BE Ironwood LLC, BE KJ LLC, BE Louisiana LLC, BE Rayle LLC, Cedar Brakes I, L.L.C., Cedar Brakes II, L.L.C., Central Power & Lime LLC, Triton Power Michigan LLC, Utility Contract Funding, L.L.C.

Description: JPMorgan Sellers Notice of Non-Material Change in Status re: Canadian Hills Wind, LLC.

Filed Date: 1/28/13.

Accession Number: 20130128-5245.

Comments Due: 5 p.m. ET 2/19/13.

Docket Numbers: ER12-540-004; ER12-539-004; ER10-1414-003; ER11-1881-005; ER10-3166-003; ER12-2159-002; ER11-1890-005; ER11-1882-005; ER10-1821-004; ER10-1346-004; ER10-1406-004; ER10-1348-004; ER12-2205-003; ER11-1883-005; ER11-2534-004; ER11-1885-005; ER10-1416-004; ER11-1892-005; ER11-1886-005; ER11-4475-004; ER11-1893-005; ER11-1887-005; ER11-1889-005; ER11-1894-005.

Applicants: APDC, Inc., Goshen Phase II LLC, Atlantic Power Energy Services (US) LLC, Auburndale Power Partners, Limited Partnership, Burley Butte Wind Park, LLC, Cadillac Renewable Energy, LLC, Canadian Hills Wind, LLC, Camp Reed Wind Park, LLC, Golden Valley Wind Park, LLC, Frederickson Power LP, Lake Cogen, Ltd., Manchief Power Company LLC, Meadow Creek Project Company LLC, Milner Dam Wind Park, LLC, Morris Cogeneration, LLC, Oregon Trail Wind Park, LLC, Pasco Cogen, Ltd., Payne's Ferry Wind Park, LLC, Pilgrim Stage Station Wind Park, LLC, Rockland Wind Farm LLC, Salmon Falls Wind Park, LLC, Thousand Springs Wind Park, LLC, Tuana Gulch Wind Park, LLC, Yahoo Creek Wind Park, LLC.

Description: Notice of Non-Material Change in Status of APDC, Inc., et al.

Filed Date: 1/28/13.

Accession Number: 20130128-5273.

Comments Due: 5 p.m. ET 2/19/13.

Docket Numbers: ER13-353-002.

Applicants: Alcoa Power Generating Inc.

Description: Executed APGI-SMT IA for eTariff to be effective 1/28/2013.

Filed Date: 1/28/13.

Accession Number: 20130128-5083.

Comments Due: 5 p.m. ET 2/19/13.

Docket Numbers: ER13-355-002.

Applicants: Alcoa Power Generating Inc.

Description: Executed APGI-TVA IA for eTariff to be effective 1/28/2013.

Filed Date: 1/28/13.

Accession Number: 20130128-5086.

Comments Due: 5 p.m. ET 2/19/13.

Docket Numbers: ER13-772-000.

Applicants: NorthWestern Corporation.

Description: SA 576—WKN Montana II LGIA—1st Revised, Amended Update to Redline to be effective N/A.

Filed Date: 1/28/13.

Accession Number: 20130128-5000.

Comments Due: 5 p.m. ET 2/19/13.

Docket Numbers: ER13-804-000.

Applicants: Florida Power Corporation.

Description: Revised Rate Schedule No. 218 of Florida Power Corporation to be effective 3/29/2013.

Filed Date: 1/28/13.

Accession Number: 20130128-5057.

Comments Due: 5 p.m. ET 2/19/13.

Docket Numbers: ER13-805-000.

Applicants: Duke Energy Carolinas, LLC.

Description: NCEMC NITSA Amendment (2013) to be effective 1/1/2013.

Filed Date: 1/28/13.

Accession Number: 20130128-5095.

Comments Due: 5 p.m. ET 2/19/13.

Docket Numbers: ER13-806-000.

Applicants: PJM Interconnection, L.L.C.

Description: Queue Position #W3-032A—Original Service Agreement Nos. 3483 & 3484 to be effective 12/28/2012.

Filed Date: 1/28/13.

Accession Number: 20130128-5097.

Comments Due: 5 p.m. ET 2/19/13.

Docket Numbers: ER13-807-000.

Applicants: American Transmission Systems, Incorporation, PJM Interconnection, L.L.C.

Description: ATSI submits Notice of Cancellation of PJM Service Agreement No. 2814 to be effective 1/29/2013.

Filed Date: 1/28/13.

Accession Number: 20130128-5099.

Comments Due: 5 p.m. ET 2/19/13.

Docket Numbers: ER13-808-000.

Applicants: PJM Interconnection, L.L.C.

Description: Queue Position #X1-108—Original Service Agreement No. 3478 to be effective 12/11/2012.

Filed Date: 1/28/13.

Accession Number: 20130128-5100.

Comments Due: 5 p.m. ET 2/19/13.

Docket Numbers: ER13-809-000.

Applicants: Duke Energy Carolinas, LLC.

Description: DEC OATT SA Nos. 208, 406, 447 and 448 to be effective 1/1/2013.

Filed Date: 1/28/13.

Accession Number: 20130128-5155.

Comments Due: 5 p.m. ET 2/19/13.

Docket Numbers: ER13-810-000.

Applicants: Southern California Edison Company.

Description: Amended LGIA for the El Segundo Project to be effective 1/4/2013.

Filed Date: 1/28/13.

Accession Number: 20130128-5159.

Comments Due: 5 p.m. ET 2/19/13.

Docket Numbers: ER13-811-000.

Applicants: PacifiCorp.

Description: OATT Revised Attachment S to be effective 4/1/2013.

Filed Date: 1/28/13.

Accession Number: 20130128-5167.

Comments Due: 5 p.m. ET 2/19/13.

Docket Numbers: ER13-812-000.

Applicants: Meadow Creek Project Company LLC.

Description: Change in Category Status in NW Region to be effective 3/29/2013.

Filed Date: 1/28/13.

Accession Number: 20130128-5204.

Comments Due: 5 p.m. ET 2/19/13.

Docket Numbers: ER13-813-000.

Applicants: Western Massachusetts Electric Company.

Description: Western Massachusetts Electric Company submits tariff filing per 35.13(a)(2)(iii: HG&E Revised Asset Demarcation Agreement to be effective 12/28/2012.

Filed Date: 1/28/13.

Accession Number: 20130128-5234.

Comments Due: 5 p.m. ET 2/19/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 29, 2013.
Nathaniel J. Davis, Sr.,
Deputy Secretary.

[FR Doc. 2013-02494 Filed 2-4-13; 8:45 am]

BILLING CODE 6717-01-P